DEPARTMENT OF HEALTH AND HUMAN SERVICES

National Institutes of Health

National Institute of Mental Health; Notice of Meeting

Pursuant to section 10(a) of the Federal Advisory Committee Act, as amended (5 U.S.C. App.), notice is hereby given of a joint meeting of the Interagency Autism Coordinating Committee (IACC) Services Subcommittee and the IACC Subcommittee for Planning the Annual Strategic Plan Updating Process.

The purpose of the joint meeting between the IACC Services Subcommittee and IACC Subcommittee for Planning the Annual Strategic Plan Updating Process is to discuss plans for a fall 2010 IACC Scientific Workshop on ASD services research. The Subcommittees' joint meeting will be conducted as a telephone conference call. This meeting is open to the public through a conference call phone number.

Name of Committee: Interagency Autism Coordinating Committee (IACC).

Type of meeting: Joint meeting of the Services Subcommittee and Subcommittee for Planning the Annual Strategic Plan Updating Process.

Date: Friday, June 18, 2010.

Time: 10 a.m. to 12 p.m. Eastern Time.

Agenda: The IACC Services Subcommittee and the IACC Subcommittee for Planning the Annual Strategic Plan Updating Process will discuss plans for a fall 2010 IACC Scientific Workshop on ASD services research.

Place: No in-person meeting; conference call only.

Conference Call: Dial: 800-369-3340, Access code: 8415008.

Contact Person: Ms. Lina Perez, Office of Autism Research Coordination, Office of the Director, National Institute of Mental Health, NIH, 6001 Executive Boulevard, NSC, Room 8200, Bethesda, MD 20852-9669, Phone: (301) 443-6040, E-mail: IACCPublicInquiries@mail.nih.gov.

Please Note: The meeting will be open to the public through a conference call phone number. Individuals who participate using this service and who need special assistance, such as captioning of the conference call or other reasonable accommodations, should submit a request at least 10 days prior to the meeting.

Members of the public who participate using the conference call phone number will be able to listen to the meeting but will not be heard. This phone call may end prior to or later than 12 p.m., depending on the needs of the subcommittees.

Information about the IACC is available on the Web site: http://www.iacc.hhs.gov.

Dated: May 20, 2010.
Jennifer Spaeth,
Director, Office of Federal Advisory Committee Policy.

[FR Doc. 2010-12781 Filed 5-26-10; 8:45 am]

BILLING CODE 4140-01-P